DEPARTMENT OF COMMERCE

International Trade Administration

[A-552-802]

Certain Frozen Warmwater Shrimp From the Socialist Republic of Vietnam: Initiation of Changed Circumstances Reviews

AGENCY: Import Administration, International Trade Administration, Department of Commerce.

SUMMARY: The Department of Commerce (“Department”) has received information sufficient to warrant initiation of five changed circumstances reviews of the antidumping duty order on certain frozen warmwater shrimp from the Socialist Republic of Vietnam (“Vietnam”).

DATES: Effective Date: March 18, 2009.

FOR FURTHER INFORMATION CONTACT: Scot Fullerton or Jerry Huang, AD/CVD Operations, Office 9, Import Administration, International Trade Administration, U.S. Department of Commerce, 1401 Constitution Avenue, NW., Washington, DC 20230; telephone: 202-482-1386 or 202-482-4047, respectively.

SUPPLEMENTARY INFORMATION:

Background

The antidumping duty order for certain frozen warmwater shrimp from Vietnam was published on February 1, 2005. See Notice of Amended Final Determination of Sales at Less than Fair Value and Antidumping Duty Order: Certain Frozen Warmwater Shrimp from the Socialist Republic of Vietnam, 70 FR 5152 (February 1, 2005) (“Order”).¹ As part of the Order, Bac Lieu Fisheries Company Limited (“Bac Lieu Limited”), Cai Doi Vam Seafood Import-Export Company (Cadovimex) (“Cadovimex”), Soc Trang Aquatic Products and General Import Export Company (“STAPIMEX”), Thuan Phuoc Seafoods and Trading Corporation (“Thuan Phuoc SOE”), and UTXI Aquatic Products Processing Company (“UTXI”) (collectively, “Original Companies”) each received antidumping duty cash deposit rates of 4.57 percent. Id. In the first administrative review, the Department initiated a review on each of the Original Companies. See Initiation of Antidumping and Countervailing Duty Administrative Reviews and Deferral of Administrative Reviews, 71 FR 17077 (April 5, 2006). However, the reviews of Cadovimex, STAPIMEX, Thuan Phuoc SOE, and UTXI were subsequently rescinded. See Certain Frozen Warmwater Shrimp from the Socialist Republic of Vietnam: Partial Rescission of the First Administrative Review, 71 FR 42628, 42629 (July 27, 2006). As part of the final results of the first administrative review, Bac Lieu Limited received an antidumping duty cash deposit rate of 4.57 percent. See Certain Frozen Warmwater Shrimp from the Socialist Republic of Vietnam: Final Results of the First Antidumping Duty Administrative Review and First New Shipper Review, 72 FR 52052, 52054 (September 12, 2007). As part of the final results of the second administrative review, in which Cadovimex, STAPIMEX, Thuan Phuoc SOE, and UTXI were each reviewed, each of these companies received antidumping duty cash deposit rates of 4.57 percent. See Certain Frozen Warmwater Shrimp from the Socialist Republic of Vietnam: Final Results and Final Partial Rescission of Antidumping Duty Administrative Review, 73 FR 52273, 52275-52276 (September 9, 2008). Bac Lieu Limited did not participate in the second administrative review.

¹ Due to a typographical error, the Order incorrectly lists the effective date as February 1, 2004. The actual effective date is the date of publication, i.e., February 1, 2005.

On January 26, 2009, Soc Trang Seafood Joint Stock Company (“STAPIMEX JSC”) filed a submission requesting that the Department conduct a changed circumstances review of the antidumping duty order on certain frozen warmwater shrimp from Vietnam and requesting that the Department find that STAPIMEX JSC is the successor-in-interest to STAPIMEX.² On January 27, 2009, UTXI Aquatic Products Processing Corporation (“UTXI Corp.”) filed a submission requesting that the Department conduct a changed circumstances review of the antidumping duty order on certain frozen warmwater shrimp from Vietnam and requesting that the Department find that UTXI Corp. is the successor-in-interest to UTXI.³ On February 4, 2009, Cadovimex Seafood Import-Export and Processing Joint Stock Company (“Cadovimex-Vietnam”) filed a submission requesting that the Department conduct a changed circumstances review of the antidumping duty order on certain frozen warmwater shrimp from Vietnam and requesting that the Department find that Cadovimex-Vietnam is the successor-in-interest to Cadovimex.⁴ On February 5, 2009, Thuan Phuoc Seafoods and Trading Corporation (“Thuan Phuoc JSC”) filed a submission requesting that the Department conduct a changed circumstances review of the antidumping duty order on certain frozen warmwater shrimp from Vietnam and requesting that the Department find that Thuan Phuoc JSC is the successor-in-interest to Thuan Phuoc SOE.⁵ On February 6, 2009, Bac Lieu Fisheries Joint Stock Company (“Bac Lieu”) filed a submission requesting that the Department conduct a changed circumstances review of the antidumping duty order on certain frozen warmwater shrimp from Vietnam and requesting that the Department find that Bac Lieu is the successor-in-interest to Bac Lieu Limited.⁶

² See STAPIMEX JSC's submission to the Department regarding Certain Frozen Warmwater Shrimp from Vietnam: Request for Changed Circumstances Review, (Case No. A-552-802) (January 26, 2009).

³ See UTXI Corp.'s submission to the Department regarding Certain Frozen Warmwater Shrimp from Vietnam: Request for Changed Circumstances Review, (Case No. A-552-802) (January 27, 2009).

⁴ See Cadovimex-Vietnam's submission to the Department regarding Certain Frozen Warmwater Shrimp from Vietnam: Request for Changed Circumstances Review, (Case No. A-552-802) (February 4, 2009).

⁵ See Thuan Phuoc JSC's submission to the Department regarding Certain Frozen Warmwater Shrimp from Vietnam: Request for Changed Circumstances Review, (Case No. A-552-802) (February 5, 2009).

⁶ See Bac Lieu's submission to the Department regarding Certain Frozen Warmwater Shrimp from Vietnam: Request for Changed Circumstances Review, (Case No. A-552-802) (February 6, 2009).

In their submissions, Bac Lieu, Cadovimex-Vietnam, STAPIMEX JSC, Thuan Phuoc JSC, and UTXI Corp. (collectively “CCR Companies”) each provided information regarding the events leading to each company's transition from the Original Companies. Additionally, each of the CCR Companies provided documentation relating to its change from either an SOE to a joint stock company (“JSC”) (i.e., Cadovimex-Vietnam, STAPIMEX JSC, and Thuan Phuoc JSC) or from a limited liability company to a JSC (i.e., Bac Lieu and UTXI Corp.). In addition, all the CCR Companies provided documentation comparing their current ownership structures and management, organizational structures, customer bases, accounting processes, supplier relationships, and products to those of their respective Original Companies. As part of their submissions, the CCR Companies requested that the Department conduct expedited reviews.

Scope of Order

The scope of the order includes certain frozen warmwater shrimp and prawns, whether wild-caught (ocean harvested) or farm-raised (produced by aquaculture), head-on or head-off, shell-on or peeled, tail-on or tail-off,⁷ deveined or not deveined, cooked or raw, or otherwise processed in frozen form.

⁷ “Tails” in this context means the tail fan, which includes the telson and the uropods.

The frozen warmwater shrimp and prawn products included in the scope of the order, regardless of definitions in the Harmonized Tariff Schedule of the United States (“HTSUS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the order. In addition, food preparations, which are not “prepared meals,” that contain more than 20 percent by weight of shrimp or prawn are also included in the scope of the order.

Excluded from the scope are: (1) Breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by the order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of the order is dispositive.

Initiation of Changed Circumstances Reviews

Pursuant to section 751(b)(1) of the Tariff Act of 1930, as amended (“Act”), the Department will conduct a changed circumstances review upon receipt of information concerning, or a request from an interested party for a review of, an antidumping duty order which shows changed circumstances sufficient to warrant a review of the order. The Department has determined that the information submitted by the CCR Companies demonstrates changed circumstances sufficient to warrant a review. See 19 CFR 351.216(d). Additionally, section 751(b)(4) of the Act states that the Department shall not conduct a review less than 24 months after the date of publication of the less-than-fair-value determination, in the absence of good cause. As noted above, all the CCR Companies filed their requests for changed circumstances reviews more than 24 months after the publication of the Order.

In accordance with the above-referenced regulations, the Department is initiating changed circumstances reviews to determine whether the CCR Companies are the successors-in-interest to the Original Companies. In determining whether one company is the successor to another for purposes of applying the antidumping duty law, the Department examines a number of factors including, but not limited to, changes in: (1) Management; (2) production facilities; (3) supplier relationships; and (4) customer base. See, e.g., Certain Cut-to-Length Carbon Steel Plate from Romania: Initiation and Preliminary Results of Changed Circumstances Antidumping Duty Administrative Review, 70 FR 22847 (May 3, 2005). While no one or several of these factors will necessarily provide a dispositive indication of succession, the Department will generally consider one company to be a successor to another company if its resulting operation is similar to that of its predecessor. See Notice of Initiation of Antidumping Duty Changed Circumstances Review: Certain Forged Stainless Steel Flanges from India, 71 FR 327 (January 4, 2006). Thus, if the evidence demonstrates that, with respect to the production and sale of the subject merchandise, the new company operates as the same business entity as the prior company, the Department will assign the new company the cash deposit rate of its predecessor.

Due to the complexity and breadth of analysis required for five separate changed circumstance reviews, it is not practical to conduct expedited changed circumstance reviews. Therefore, we have not issued the preliminary results of these changed circumstance reviews at this time. The Department will publish in the Federal Register a notice of preliminary results of the antidumping duty changed circumstances reviews, in accordance with 19 CFR 351.221(b)(4) and 19 CFR 351.221(c)(3)(i). This notice will set forth the factual and legal conclusions upon which our preliminary results are based and a description of any action proposed based on those results. Pursuant to 19 CFR 351.221(b)(4)(ii), interested parties will have an opportunity to comment on the preliminary results of the reviews. In accordance with 19 CFR 351.216(e), the Department will issue the final results of its antidumping duty changed circumstances reviews not later than 270 days after the date on which the reviews are initiated, or within 45 days if all parties to the proceeding agree to the outcome of the preliminary findings, and will publish these results in the Federal Register.

This notice is published in accordance with sections 751(b)(1) and 777(i) of the Act and 19 CFR 351.216 and 351.221(c)(3).

Dated: March 12, 2009.
John M. Andersen,
Acting Deputy Assistant Secretary for Antidumping and Countervailing Duty Operations.

[FR Doc. E9-5875 Filed 3-17-09; 8:45 am]

BILLING CODE 3510-DS-P